DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Cooperation Concerning Civil Uses of Atomic Energy Between the Government of the United States of America and the Government of Canada, as amended (the Agreement).

DATES: This subsequent arrangement will take effect no sooner than December 31, 2020.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the granting of advance consent to Canada, pursuant to paragraph D of Article XII of the Agreement, to retransfer unirradiated source material, unirradiated uranium enriched to less than 20% in the isotope U-235, and moderator material to member states of the European Atomic Energy Community (EURATOM), and to the United Kingdom of Great Britain and Northern Ireland (UK). Any such material transferred from Canada to EURATOM would be made subject to the Agreement for Cooperation in the Peaceful Uses of Nuclear Energy between the United States of America and the European Atomic Energy Community (the U.S.-EURATOM 123 Agreement). Any such material transferred from Canada to the UK prior to the entry into force of the Agreement between the Government of the United States of America and the Government of the United Kingdom of Great Britain and Northern Ireland for Cooperation in Peaceful Uses of Nuclear Energy (the U.S.-UK 123 Agreement) would be made subject to the U.S.-EURATOM 123 Agreement, and any such material transferred from Canada to the UK following the entry into force of the U.S.-UK 123 Agreement would be made subject to the U.S.-UK 123 Agreement.

Pursuant to the authority in section 131 a. of the Atomic Energy Act of 1954, as delegated, I have determined that this proposed subsequent arrangement will not be inimical to the common defense and security of the United States of America.

Signing Authority

This document of the Department of Energy was signed on December 11, 2020, by Brent K. Park, Deputy Administrator for Defense Nuclear Nonproliferation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 11, 2020.
Treena V. Garrett,
Federal Register Liaison Officer, U.S. Department of Energy.

[FR Doc. 2020-27682 Filed 12-15-20; 8:45 am]

BILLING CODE 6450-01-P